DEPARTMENT OF COMMERCE

National Oceanic and Atmospheric Administration

[I.D. 030105C]

Fisheries of the Exclusive Economic Zone Off Alaska; Notice of Crab Rationalization Program Public Workshops

AGENCY: National Marine Fisheries Service (NMFS), National Oceanic and Atmospheric Administration (NOAA), Commerce.

ACTION: Notice of public workshops.

SUMMARY: NMFS will present a series of public workshops on the new Crab Rationalization Program (Program) for participants the Bering Sea and Aleutian Islands (BSAI) king and Tanner crab fisheries. At each workshop, NMFS will provide an overview of the Program, discuss the key Program elements, provide information on the application process, and answer questions. NMFS is conducting these public workshops to provide assistance to fishery participants in complying with the requirements of this new Program.

DATES: Workshops will be held in March and April 2005. For specific dates and times see SUPPLEMENTARY INFORMATION.

ADDRESSES: Workshops will be held in Kodiak, AK; Seattle, WA; Newport, OR; and Anchorage, AK. For specific locations see SUPPLEMENTARY INFORMATION.

FOR FURTHER INFORMATION CONTACT: Sheela McLean, 907-586-7032 or sheela.mclean@noaa.gov.

SUPPLEMENTARY INFORMATION: On March 2, 2005, NMFS published a final rule implementing the Crab Rationalization Program (Program) as Amendments 18 and 19 to the Fishery Management Plan for Bering Sea/ Aleutian Islands King and Tanner Crabs. In January 2004, the U.S. Congress amended section 313(j) of the Magnuson-Stevens Act through the Consolidated Appropriations Act of 2004 (Pub. L. No. 108-199, section 801). As amended, section 313(j)(1) requires the Secretary to approve and implement the Program, as it was approved by the North Pacific Fishery Management Council (Council) between June 2002 and April 2003, and all trailing amendments, including those reported to Congress on May 6, 2003. In June 2004, the Council consolidated its actions on the Program into the Council motion, which is contained in its entirety in Amendment 18. Additionally, in June 2004, the Council developed Amendment 19, which represents minor changes necessary to implement the Program. The Notice of Availability for these amendments was published in the Federal Register on September 1, 2004 (69 FR 53397). NMFS approved Amendments 18 and 19 on November 19, 2004. NMFS published a proposed rule to implement Amendments 18 and 19 in the Federal Register on October 29, 2004 (69 FR 63200).

NMFS is conducting public workshops to provide assistance to fishery participants in complying with the requirements of this new Program. At each workshop, NMFS will provide an overview of the Program, discuss the key Program elements, and provide information on the application process. The key Program elements to be discussed include economic data collection, the Arbitration System, community measures, monitoring and enforcement, electronic reporting, quota share and individual fishing quota application and transfer provisions, the appeals process, fee collection, and the loan program. Additionally, NMFS will answer questions from workshop participants. For further information on the Crab Rationalization Program, please visit the NMFS Alaska Region Internet site at www.fakr.noaa.gov.

Workshop Dates, Times, and Locations

NMFS will hold public workshops as follows:

1. Friday, March 18, 2005, 10 a.m. - 4 p.m. Alaska local time (ALT) - Choral Pod, Kodiak High School, Kodiak, AK.

2. Wednesday, March 30, 2005, 10 a.m. - 4 p.m. Pacific Standard Time (PST) - Leif Erickson Hall, 2245 Northwest 57th Street, Seattle, WA.

3. Friday, April 1, 2005, 10 a.m. - 4 p.m. PST - Seminar Room, Marine Hatfield Science Center, 2030 Southeast Marine Science Drive, Newport, OR

4. Tuesday, April 5, 2005, 6 p.m. - 9 p.m. ALT - Anchorage Hilton, Katmai/Dillingham Room, 500 West Third Avenue, Anchorage, AK.

Special Accommodations

These workshops are physically accessible to people with disabilities. Requests for special accommodations should be directed to Sheela McLean (see FOR FURTHER INFORMATION CONTACT) at least five working days before the workshop date.

Dated: March 1, 2005.
Alan D. Risenhoover,
Acting Director, Office of Sustainable Fisheries, National Marine Fisheries Service.

[FR Doc. 05-4379 Filed 3-4-05; 8:45 am]

BILLING CODE 3510-22-S